DEPARTMENT OF DEFENSE

Department of the Navy

[Docket ID: USN-2024-HQ-0020]

Privacy Act of 1974; System of Records

AGENCY: United States Marine Corps, Department of Defense (DoD).

ACTION: Notice of a modified system of records.

SUMMARY: In accordance with the Privacy Act of 1974, the Department of the Navy is modifying and reissuing a current system of records titled, “Marine Corps Marathon Automated Support System,” MMC00010. This system of records was originally established to collect and maintain records to register and promote participation in Marine Corps Marathon Organization's race events. The system name and identifier are changing from “Marine Corps Marathon Automated Support System,” MMC0010 to “Marine Corps Marathon Organization Event Records,” M01710-2. Additionally, this system of records notice (SORN) is being updated to expand the events and individuals covered, include information regarding medical treatment provided at events, and incorporate the DoD standard routine uses and support additional information sharing of these records outside the DoD. The DoD is also modifying various other sections within the SORN to improve clarity or update information that has changed.

DATES: This system of records is effective upon publication; however, comments on the Routine Uses will be accepted on or before January 27, 2025. The Routine Uses are effective at the close of the comment period.

ADDRESSES: You may submit comments, identified by docket number and title, by either of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 05F16, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Sally A. Hughes, FOIA/PA Programs Manager (ARSF), Headquarters, U.S. Marine Corps, 3000 Marine Corps Pentagon, Washington, DC 20350-3000, or by phone (703) 614-3685.

SUPPLEMENTARY INFORMATION:

I. Background

The Marine Corps Marathon Automated Support System of records is used to register, acknowledge, and promote participation in Marine Corps Marathon Organization's race events. Information from this system of records is used to plan, organize, coordinate, and execute the events and communicate with the runners, first responders, medical and general volunteers. Subject to public comment, the DoD is updating this SORN to add the standard DoD routine uses (routine uses A through J) and to allow for additional disclosures outside DoD related to the purpose of this system of records. Additionally, the following sections of this SORN are being modified: (1) to the Categories of Individuals Covered by the System section to expand the individuals covered; (2) to the Categories of Records to include medical data, treatment, and transportation information; (3) to the Purpose(s) to clarify how the records related to the Category of Individuals (4) to the Retrievability section to permit retrieval using revised Categories of Records; (5) to the Administrative, Technical, and Physical Safeguards to update the individual safeguards protecting the personal information; (6) to the Contesting Records Procedures section to update the appropriate citation for contesting records; (7) to the System Manager and System Location sections to update the addresses and office name; and (8) Retention and Disposal section to reflect current National Archives and Records Administration approved retentions. Furthermore, this notice includes non-substantive changes to simplify the formatting and text of the previously published notice.

DoD SORNs have been published in the Federal Register and are available from the address in FOR FURTHER INFORMATION CONTACT or at the Defense Privacy, Civil Liberties, and Transparency Division (OATSD(PCLT)) website at https://dpcld.defense.gov/privacy.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, OATSD(PCLT) has provided a report of this system of records to the OMB and to Congress.

Dated: December 18, 2024.
Aaron T. Siegel,
Alternate OSD Federal Register Liaison Officer, Department of Defense.

SYSTEM NAME AND NUMBER:

Marine Corps Marathon Organization Event Records, M01710-2.

SECURITY CLASSIFICATION:

Unclassified.

SYSTEM LOCATION:

Marine Corps Marathon Office, Building 3399 Russell Road, Quantico, VA 22134-5000.

SYSTEM MANAGER(S):

The system manager is Director, Marine Corps Marathon Organization, 3399 Russell Road, Quantico, VA 22134-5000, or by phone 703-784-2225/6.

AUTHORITY FOR MAINTENANCE OF THE SYSTEM:

10 U.S.C. 5013, Secretary of the Navy; 10 U.S.C. 5041, Headquarters, Marine Corps: Function, Composition; DoD 7000.14-R Volume 13, Financial Management Regulations (FMR); SECNAVINST 1700.12B, Operation of Morale, Welfare, and Recreation Activities; and Marine Corps Marathon Charter, 27 March 2017.

PURPOSE(S) OF THE SYSTEM:

To register, acknowledge and promote participation in Marine Corps Marathon Organization's race events. Information is used to plan, organize, coordinate, and execute the events and communicate with the runners, first responders, medical and general volunteers before, during and after the event to include publication of finisher results, finisher certificates and race photographs, videos, and motion pictures. Data and photographs, videotape, motion pictures and other recordings may be used by the Marine Corps Marathon Organization and its select partners and sponsors for surveys, data mining, publications on websites, social media posting, race programs and promotions, newspaper articles, newsletters, digital media, and other race marketing purposes and runner experience and enhancements.

CATEGORIES OF INDIVIDUALS COVERED BY THE SYSTEM:

Participants, parents/guardians and volunteers for the Marine Corps Marathon, Marine Corps Marathon Transfer/Deferment, Marine Corps Marathon 10K, Marine Corps Marathon Kids Run, Marine Corps Historic Half, Historic 10K, Semper Fred 5K, Marine Corps 1775K, Run Amuck, Mini Run Amuck, Quantico Triathlon, Turkey Trot 10K, and Turkey Trot Kids Mile.

CATEGORIES OF RECORDS IN THE SYSTEM:

A. Personal information such as: name, address, date of birth, country, phone number(s), gender, emergency contact information, medical information (current and chronic health conditions, medications, injuries, allergies, and assistive devices as well as medical treatment requested and received). If participant is a minor, parent's name, contact information, and consent.

B. Employment information such as: position/title, rank/grade, work address, email address, military service, medical specialty/sub-specialty, certification/license number, status and expiration date, type, and associated state.

C. First responder and volunteer information such as: organization, race name and volunteer job selection/assignment, and eligibility information (such as experience, education, professional qualifications/skills), and start and completion dates of service.

D. Other information such as: apparel selection and size, race payment information, club member ID and bib number, solo or team runners, team captain selection, and team category (e.g., corporate/workplace, military, nonprofit running club, charity, university/college, high school), physical or special accommodations information, live map tracking data and race results, completion time, photograph(s), video, motion pictures, and other recordings. Publicly available social media information, including electronic social media information published or broadcast for public consumption, available on request to the public, accessible online to the public, available to the public by subscription or purchase, or is otherwise lawfully accessible to the public. Publicly available social media information does not include information only accessible by logging into a private account of the individual about whom the record pertains or by requiring the individual to provide a password to social media information that is not publicly available.

RECORD SOURCE CATEGORIES:

Records and information stored in this system of records are obtained from: individuals (i.e., participant, parent/guardian, or volunteer) through registration online, using Marine Corps Marathon Organization's contracted registration services or in person at the event to include photos or video taken.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the federal government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State or local agency for the purpose of comparing to the agency's system of records or to non-Federal records, in coordination with an Office of Inspector General in conducting an audit, investigation, inspection evaluation, or other review as authorized by the Inspector General Act of 1978, as amended.

J. To such recipients and under such circumstances and procedures as are mandated by Federal statute or treaty.

K. To the news media, social media channels, or the general public, when there exists a legitimate public interest in the disclosure of information, and the disclosure would not constitute an unwarranted invasion of personal privacy.

L. To select sponsors approved by the Marine Corps Marathon Organization to communicate with the runners.

M. To medical facilities/professionals receiving patients transported for additional care or for follow up care.

POLICIES AND PRACTICES FOR STORAGE OF RECORDS:

Records may be stored electronically on secure servers or on paper in secure facilities in a locked drawer behind a locked door. The records may be stored on magnetic disc, tape, or digital media; in agency-owned cloud environments; or in vendor Cloud Service Offerings certified under the Federal Risk and Authorization Management Program (FedRAMP).

POLICIES AND PRACTICES FOR RETRIEVAL OF RECORDS:

Records may be retrieved by name, home address, email address, telephone number, bib number, runners club ID.

POLICIES AND PRACTICES FOR RETENTION AND DISPOSAL OF RECORDS:

A. Race Winner Records: PERMANENT: Cut off every 4 years. Transfer electronic records to the National Archives for pre-accessioning immediately after 10 YEARS. Transfer to the National Archives immediately after 20 Years.

B. General event management and participant records other than Race Winner Records: TEMPORARY: Cut off at CY. Destroy when 10 years old.

C. First Responder and Volunteer records: TEMPORARY: Cut off at CY or when individual leaves the program. Destroy 3 years after cutoff.

ADMINISTRATIVE, TECHNICAL, AND PHYSICAL SAFEGUARDS:

The DoD safeguards records in this system of records according to applicable rules, policies, and procedures, including all applicable DoD automated systems security and access policies. DoD policies require the use of controls to minimize the risk of compromise of personally identifiable information (PII) in paper and electronic form and to enforce access by those with a need to know and with appropriate clearances. Additionally, the DoD established security audit and accountability policies and procedures which support the safeguarding of PII and detection of potential PII incidents. The DoD routinely employs safeguards such as the following to information systems and paper recordkeeping systems: Multifactor log-in authentication including Common Access Card (CAC) authentication and password; physical token as required; physical and technological access controls governing access to data; network encryption to protect data transmitted over the network; disk encryption securing disks storing data; key management services to safeguard encryption keys; masking of sensitive data as practicable; mandatory information assurance and privacy training for individuals who will have access; identification, marking, and safeguarding of PII; physical access safeguards including multifactor identification physical access controls, detection and electronic alert systems for access to servers and other network infrastructure; and electronic intrusion detection systems in DoD facilities.

RECORD ACCESS PROCEDURES:

Individuals seeking access to information about themselves contained in this system of records should address written inquiries to Director, Marine Corps Marathon Organization, P.O. Box 188, Quantico, VA 22134-5000. Written requests must contain full name, current address, telephone number, and must be signed by the individual. An email address is optional. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

For personal visits, the individual should be able to provide an identification bearing picture and signature or sufficient verbal data to ensure that the individual is the subject of the inquiry. A visitor may review their records in person by appointment only, Monday through Friday, 8 a.m. to 4:30 p.m., Marine Corps Marathon Organization, Building 3399 Russell Road, Quantico, VA 22134. Contact by phone (703) 784-2225 for an appointment.

CONTESTING RECORD PROCEDURES:

The DoD rules for accessing records, contesting contents, and appealing initial Component determinations are contained in 32 CFR part 310, or may be obtained from the system manager.

NOTIFICATION PROCEDURES:

Individuals seeking to determine whether information about themselves is contained in this system of records should follow the instructions for Record Access Procedures above.

EXEMPTIONS PROMULGATED FOR THE SYSTEM:

None.

HISTORY:

August 3, 1993, 58 FR 41254; February 13, 2015, 80 FR 8078.

[FR Doc. 2024-30665 Filed 12-23-24; 8:45 am]

BILLING CODE 6001-FR-P